FEDERAL COMMUNICATIONS COMMISSION

[WC Docket No. 04-36; DA 04-1246]

FCC Announces Panelists for May 7, 2004 “Solutions Summit” on Disability Access Issues Associated With Internet-Protocol Based Communications Services

AGENCY: Federal Communications Commission.

ACTION: Announcement of meeting.

SUMMARY: This document invites interested persons to a Solutions Summit on Friday, May 7, 2004. The Solutions Summit is the second in a series where government, industry leaders and stakeholders can discuss creative ways to address policy issues that arise as communications services move to Internet-Protocol based platforms. This meeting will focus on the ways persons with disabilities access services increasingly based upon IP technologies.

DATES: The Solutions Summit will be held on Friday, May 7, 2004 from 9 a.m. to 1:15 p.m. in the Commission Meeting Room, Room TW-C305.

ADDRESSES: Federal Communications Commission, 445 12th Street, SW., Washington, DC 20554.

FOR FURTHER INFORMATION CONTACT: For more information about the Solutions Summit, please contact Kelly Jones at (202) 418-7078 (voice), (202) 418-1169 (TTY), or Kelly.Jones@fcc.gov (E-mail).

SUPPLEMENTARY INFORMATION: This second meeting will focus on accessibility of persons with disabilities, and on the particular challenges and opportunities created for persons with disabilities. The preliminary agenda for this second Solutions Summit is as follows:

Preliminary Agenda

9 a.m.-9:30 a.m.

Opening Remarks

Remarks by Commissioner Adelstein

Remarks by Commissioner Copps

9:30 a.m.-10:30 a.m.

Panel I: Opportunities IP-Enabled Services Present

Moderator: K. Dane Snowden, FCC

• Cary Barbin, Gallaudet University, TAP

• Gunnar Hellstrom, Omnitor

• Harold Salters, T-Mobile USA

• Tom Wlodkowski, America Online

• Paul E. Jones, Cisco Systems

10:35 a.m.-10:45 a.m.

Break

10:45 a.m.-11:45 a.m.

Panel II: Challenges IP-Enabled Services Present for Persons with Disabilities

Moderator: Robert Pepper, FCC

• Brenda Battat, SHHH

• Barry Andrews, 8X8

• Claude Stout, TDI

• Jim Tobias, Inclusive Technologies

• Nate Wilcox, Vermont E-9-1-1

11:55 a.m.-12:05 p.m.

Break

12:05 p.m.-1:05 p.m.

Panel III: Regulatory Impact on IP-Enabled Services and Accessibility for Persons with Disabilities

Moderator: Jeffrey Carlisle, FCC

• Ed Bosson, Texas PUC

• Paul Michaelis, Avaya

• Paul Schroeder, American Foundation for the Blind

• Gregg Vanderheiden, Trace R&D Center

1:05 p.m.-1:15 p.m.

Closing Remarks by Chairman Powell

Participants will include members of the disability community, industry representatives, and FCC staff.

Facilities

The FCC is located at 445 12th Street SW., Washington, DC 20554. Directions and a map of the streets near the FCC are available at http://www.fcc.gov/portalsmap.html. The Commission Meeting Room is equipped with a Wi-Fi Internet network, an assistive listening device system, and is accessible to persons with disabilities.

Security

Please note that the FCC is a federal building with security. All attendees will be required to pass through security and present a government-issued form of identification. The FCC's Commission Meeting Room will be opened early to facilitate access to the building; attendees are encouraged to allocate additional time to enter the building.

Webcast & Video

The Solutions Summit will be webcast live and also archived for later viewing. Access to and additional information concerning the webcast is available at http://www.fcc.gov/realaudio/. Open captioning will be provided for the webcast.

Reasonable Accommodations

Open captioning and sign language interpreters will be provided for this event. Other reasonable accommodations for people with disabilities are available upon request. Include a description of the accommodation you will need including as much detail as you can. Also include a way we can contact you if we need more information. Make your request as early as possible. Last minute requests will be accepted, but may not be possible to fill. Send an e-mail to fcc504@fcc.gov or call the Consumer & Governmental Affairs Bureau: For reasonable accommodations: (202) 418-0530 (voice), (202) 418-0432 (TTY). For accessible format materials (Braille, large print, electronic files, and audio format): (202) 418-0531 (voice), 202-418-7365 (TTY).

More Information

For additional information on Internet-Protocol enabled services, please visit the Web site at: http://www.fcc.gov/voip. For questions about WC Docket No. 04-36, contact Robert Pepper, Chief of Policy Development, at (202) 418-2030 (voice), orRobert.Pepper@fcc.gov (E-mail), or Jeff Carlisle, Senior Deputy Chief, Wireline Competition Bureau, at (202) 418-1500 (voice) or Jeffrey.Carlisle@fcc.gov (E-mail).

Federal Communications Commission.
P. June Taylor,
Chief of Staff, Consumer & Governmental Affairs Bureau.

[FR Doc. 04-11008 Filed 5-13-04; 8:45 am]

BILLING CODE 6712-01-P